DEPARTMENT OF COMMERCE

International Trade Administration

[A-201-849, A-570-093, C-570-094]

Refillable Stainless-Steel Kegs From Mexico and the People's Republic of China: Final Results of Sunset Reviews and Revocation of Orders

AGENCY: Enforcement and Compliance, International Trade Administration, Department of Commerce.

SUMMARY: On September 3, 2024, the U.S. Department of Commerce (Commerce) initiated the first sunset review of the antidumping duty (AD) order on refillable stainless-steel kegs (kegs) from Mexico and the AD and countervailing duty (CVD) orders on kegs from the People's Republic of China (China). Because no domestic interested party responded to the sunset review notice of initiation by the applicable deadline, consistent with section 751(c)(3)(A) of the Tariff Act of 1930, as amended (the Act), Commerce is revoking the AD orders on kegs from China and Mexico and the CVD order on kegs from China.

DATES: Applicable November 21, 2024.

FOR FURTHER INFORMATION CONTACT: Carter Sherwin, AD/CVD Operations, Office II, Enforcement and Compliance, International Trade Administration, U.S. Department of Commerce, 1401 Constitution Avenue NW, Washington, DC 20230; telephone: (202) 482-4260.

SUPPLEMENTARY INFORMATION:

Background

On October 10, 2019, Commerce issued the AD order on kegs from Mexico.¹ On December 16, 2019, Commerce issued the AD and CVD orders on kegs from China.² On September 3, 2024, Commerce initiated the current sunset reviews of the China Orders and Mexico Order (collectively, Orders), pursuant to section 751(c) of the Act).³

¹ See Refillable Stainless Steel Kegs From Mexico: Antidumping Duty Order, 84 FR 54591 (October 10, 2019) (Mexico Order).

² See Refillable Stainless-Steel Kegs from the Federal Republic of Germany and the People's Republic of China: Antidumping Duty Order, 84 FR 68405 (December 16, 2019) (AD China Order); see also Refillable Stainless-Steel Kegs from the People's Republic of China: Countervailing Duty Order, 84 FR 68400 (December 16, 2019) (CVD China Order) (collectively, China Orders).

³ See Initiation of Five-Year (Sunset) Reviews, 89 FR 71252 (September 3, 2024).

On September 24, 2024, Commerce staff spoke with counsel to the American Keg Company LLC (the petitioner) who informed Commerce that the petitioner does not intend to participate in these sunset reviews.⁴ As a result, in accordance with 19 CFR 351.218(d)(1)(iii)(B)(1), Commerce determined that no domestic interested party intends to participate in these sunset reviews. On September 25, 2024, we notified the U.S. International Trade Commission of these facts and that we intended to revoke the Orders within 90 days of the initiation, consistent with 19 CFR 351.218(d)(1)(iii)(B)(2).⁵

⁴ See Memorandum, “Petitioner Does Not Intend to Participate in the Reviews,” dated September 25, 2024. (Petitioner Participation Memorandum).

⁵ See Commerce's Letter, “Sunset Reviews Initiated on September 3, 2024,” dated September 25, 2024.

Scope of the Orders

The merchandise covered by the Orders are kegs, vessels, or containers with bodies that are approximately cylindrical in shape, made from stainless steel (i.e., steel containing at least 10.5 percent chromium by weight and less than 1.2 percent carbon by weight, with or without other elements), and that are compatible with a “D Sankey” extractor (refillable stainless steel kegs) with a nominal liquid volume capacity of 10 liters or more, regardless of the type of finish, gauge, thickness, or grade of stainless steel, and whether or not covered by or encased in other materials. Refillable stainless-steel kegs may be imported assembled or unassembled, with or without all components (including spears, couplers or taps, necks, collars, and valves), and be filled or unfilled.

“Unassembled” or “unfinished” refillable stainless-steel kegs include drawn stainless-steel cylinders that have been welded to form the body of the keg and attached to an upper (top) chime and/or lower (bottom) chime. Unassembled refillable stainless-steel kegs may or may not be welded to a neck, may or may not have a valve assembly attached, and may be otherwise complete except for testing, certification, and/or marking.

Subject merchandise also includes refillable stainless steel kegs that have been further processed in a third country, including but not limited to, attachment of necks, collars, spears or valves, heat treatment, pickling, passivation, painting, testing, certification or any other processing that would not otherwise remove the merchandise from the scope of the Orders if performed in the country of manufacture of the in-scope refillable stainless steel keg.

Specifically excluded are the following:

(1) vessels or containers that are not approximately cylindrical in nature (e.g., box, “hopper” or “cone” shaped vessels);

(2) stainless steel kegs, vessels, or containers that have either a “ball lock” valve system or a “pin lock” valve system (commonly known as “Cornelius,” “corny” or “ball lock” kegs);

(3) necks, spears, couplers or taps, collars, and valves that are not imported with the subject merchandise; and

(4) stainless steel kegs that are filled with beer, wine, or other liquid and that are designated by the Commissioner of Customs as Instruments of International Traffic within the meaning of section 332(a) of the Tariff Act of 1930, as amended.

The merchandise covered by the Orders are currently classified in the Harmonized Tariff Schedule of the United States (HTSUS) under subheadings 7310.10.0010, 7310.10.0050, 7310.29.0025, and 7310.29.0050. These HTSUS subheadings are provided for convenience and customs purposes; the written description of the scope of this investigation is dispositive.

Revocation

Pursuant to section 751(c)(3)(A) of the Act and 19 CFR 351.218(d)(1)(iii)(B)(3), if no domestic interested party responds to a notice of initiation, Commerce shall, within 90 days after the initiation of review, revoke the order. Because the petitioner informed Commerce that it did not intend to participate in these sunset reviews, we are revoking the Orders.⁶

⁶ See Petitioner Participation Memorandum.

Effective Date of Revocation

Pursuant to section 751(c)(3)(A) of the Act and 19 CFR 351.222(i)(2)(i), Commerce intends to instruct U.S. Customs and Border Protection to terminate the suspension of liquidation of the merchandise subject to these Orders entered, or withdrawn from the warehouse, on or after October 10, 2024, the fifth anniversary of the date of the publication of the Mexico Order, and December 16, 2024, the fifth anniversary of the date of publication of the China Orders, respectively.⁷

⁷ See Mexico Order, 84 FR 54591; AD China Order, 84 FR 68405; and CVD China Order, 84 FR 68400.

Entries of subject merchandise prior to the effective date of revocation will continue to be subject to suspension of liquidation and AD and CVD deposit requirements. Commerce may conduct administrative reviews of subject merchandise entered prior to the effective date of revocation in response to appropriately filed requests for review.

Notifications to Interested Parties

We are issuing and publishing this notice in accordance with sections 751(c) and 777(i)(1) of the Act, and 19 CFR 351.218(d)(1)(iii)(B)(3) and 351.222(i)(1)(i).

Dated: November 14, 2024.
Abdelali Elouaradia,
Deputy Assistant Secretary for Enforcement and Compliance.

[FR Doc. 2024-27170 Filed 11-20-24; 8:45 am]

BILLING CODE 3510-DS-P